DEPARTMENT OF AGRICULTURE

Rural Utilities Service

Georgia Transmission Corporation; Notice of Intent

AGENCY: Rural Utilities Service, USDA.

ACTION: Notice of intent to hold scoping meeting and prepare an Environmental Assessment.

SUMMARY: Notice is hereby given that the Rural Utilities Service (RUS), an agency delivering the U. S. Department of Agriculture's Rural Development Utilities Programs, proposes to prepare an Environmental Assessment related to possible financing assistance to Georgia Transmission Corporation for the construction of approximately 40 miles of 500 kilovolt transmission line. The proposed 500-kilovolt transmission line project would be located in McDuffie, Warren, Hancock, Glascock and Washington Counties, Georgia.

Meeting Information: RUS will conduct a Scoping Meeting in an open house format from 1 p.m. until 3 p.m. on Tuesday, May 24, 2005, at the Warthen Community Center, Warthen, Georgia 31094. Phone: (770) 270-7741. The Community Center is on Bethlehem Baptist Church Road, located on State Route 102 approximately .25 miles north of the intersection of State Route 15. A second Scoping Meeting will be held from 5 p.m. until 7 p.m. on Tuesday, May 24, 2005. The meeting will be held at Thomson High School, located at 1160 White Oak Road in Thomson, Georgia 30824. Phone: (706) 595-9393. The purpose of these two meetings are provide information and solicit comments.

FOR FURTHER INFORMATION CONTACT: Stephanie Strength, Engineering and Environmental Staff, Rural Utilities Service, Stop 1571, 1400 Independence Avenue, SW., Washington, DC 20250-1571. Telephone: (202) 720-0468. Mrs. Strength's e-mail address is stephanie.strength@usda.gov.

SUPPLEMENTARY INFORMATION: Georgia Transmission Corporation proposes to construct a 500 kilovolt transmission line between the Thomson Substation (located on Hampton-Davis Road, 4 miles east of Thomson, Georgia, and 2 miles northeast of Boneville, Georgia) to the Warthen Switching Station (located 8 miles northwest of Warthen, Georgia and 1.5 miles southwest of State Highway 15 on Mill Lindsey School Road). It is near the Scherer-Warthen 500 kV Transmission Line and adjacent to the Duke Energy North America's Sandersville Facility, a combustion turbine generation plant. Lattice steel towers ranging in height from 80- to 150-feet would support the conductors and would require a right-of-way of 180 feet. The approximate length of the transmission line is 40 miles. It is anticipated that this transmission line would be in service in the spring of 2010.

Alternatives considered by RUS and Georgia Transmission Corporation include: (a) No action, (b) alternative transmission improvements, and (c) alternative transmission line corridors. An Electric Alternative Evaluation and Macro Corridor Study Report, prepared by Georgia Transmission Corporation, will be presented at the public scoping meeting. The Report is available for public review at RUS at the address provided in this notice, at Georgia Transmission Corporation, 2100 East Exchange Place, Tucker, Georgia 30084 and at: Glascock County Public Library, 738 Railroad Avenue, Gibson, GA 30810, Phone: 706-598-9837. Harlem Library, 375 North Louisville Street, Harlem, GA 30814, Phone: 706-556-9795. Hancock County Library, 403 East Broad Street, Sparta, GA 31087, Phone: 706-444-5389. Rosa M Tarbutton Memorial Library, 314 South Harris Street, Sandersville, GA 31082, Phone: 478-552-6324. Thomson McDufffie County Library, 338 Main Street, Thomson, GA 30824, Phone: 706-595-1341. Warren County Library, 101 Warren Street, Warrenton, GA 30828, Phone: 706-465-2656.

Government agencies, private organizations, and the public are invited to participate in the planning and analysis of the proposed project. Representatives from RUS and Georgia Transmission Corporation will be available at the scoping meetings to discuss RUS’ environmental review process, describe the project, the need for the project, and macro corridors under consideration, and discuss the scope of environmental issues to be considered, answer questions, and accept oral and written comments. Written comments will be accepted for 30 days after the public scoping meeting. Written comments should be sent to RUS at the address provided in this notice.

From information provided in the alternative evaluation and site selection study, input that may be provided by government agencies, private organizations, and the public, Georgia Transmission Corporation will prepare an environmental analysis to be submitted to RUS for review. RUS will use the environmental analysis to determine the significance of the impacts of the project and may adopt it as its environmental assessment of the project. RUS' environmental assessment of the project would be available for review and comment for 30 days.

Should RUS determine, based on the Environmental Assessment of the project, that the impacts of the construction and operation of the plant would not have a significant environmental impact, it will prepare a finding of no significant impact. Public notification of a finding of no significant impact would be published in the Federal Register and in newspapers with a circulation in the project area.

Any final action by RUS related to the proposed project will be subject to, and contingent upon, compliance with environmental review requirements as prescribed by the Council on Environmental Quality (CEQ) and RUS’ environmental policies and procedures.

Dated: May 4, 2005.
Glendon D. Deal,
Director, Engineering and Environmental Staff, Water and Environmental Programs, Rural Utilities Service.

[FR Doc. 05-9241 Filed 5-9-05; 8:45 am]

BILLING CODE 3410-15-P